DEPARTMENT OF THE INTERIOR

National Park Service

[NPS-WASO-NRNHL-21175; PPWOCRADI0, PCU00RP14.R50000]

National Register of Historic Places; Notification of Pending Nominations and Related Actions

AGENCY: National Park Service, Interior.

ACTION: Notice.

SUMMARY: The National Park Service is soliciting comments on the significance of properties nominated before May 28, 2016, for listing or related actions in the National Register of Historic Places.

DATES: Comments should be submitted by July 15, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before May 28, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALABAMA

Lawrence County

Wheeler Hydroelectric Project, (Tennessee Valley Authority Hydroelectric System, 1933-1979 MPS) 24455 AL 101, Rogersville, 16000431

Marshall County

Guntersville Hydroelectric Project, (Tennessee Valley Authority Hydroelectric System, 1933-1979 MPS) 3464 Snow Point Rd., Guntersville, 16000432

ARKANSAS

Bradley County

Warren Commercial Historic District, Roughly bounded by Alabama, Elm, Chestnut, 2nd, Church, Main & Howard Sts., Warren, 16000433

CALIFORNIA

Los Angeles County

View Park Historic District, Roughly bounded by Mt. Vernon, Enoro, Northland & Northridge Drs., Kenway, S. Victoria & Floresta Aves., Los Angeles, 16000434

DISTRICT OF COLUMBIA

District of Columbia

U.S. Post Office Department Mail Equipment Shops, 2135 5th St. NE., Washington, 16000435

MAINE

Cumberland County

Schlotterbeck and Foss Building, 117 Preble St., Portland, 16000436

Kennebec County

Seton, Elizabeth Ann, Hospital, 30 Chase Ave., Waterville, 16000437

Sagadahoc County

Huse, John E.L., Memorial School, 39 Andrews Rd., Bath, 16000438

Washington County

Eastport Historic District (Boundary Increase), 15 Sea St., Eastport, 16000439

MINNESOTA

Hennepin County

Lake Street Sash and Door Company, 4001-4041 Hiawatha Ave., Minneapolis, 16000440

Northstar Center, 625 Marquette Ave. & 608, 618 & 618 1/2 2nd Ave. S., Minneapolis, 16000441

NORTH DAKOTA

Williams County

Creaser Building, 224 Main St., Williston, 16000442

RHODE ISLAND

Providence County

Braitsch, William J. and Company, Plant, 472 Potters Ave., Providence, 16000443

SOUTH CAROLINA

Richland County

Carolina Life Insurance Company, 1501 Lady St., Columbia, 16000444

A request for removal has been received for the following resources:

COLORADO

Boulder County

Snowbound Mine, Co. Rd. 52, Gold Hill, 89000998

NORTH DAKOTA

Bottineau County

State Bank of Antler, Antler Sq., Antler, 88000986

Authority: 60.13 of 36 CFR part 60.

Dated: May 31, 2016.
Julie Ernstein,
Acting Chief, National Register of Historic Places/National Historic Landmarks Program.

[FR Doc. 2016-15086 Filed 6-29-16; 8:45 am]

BILLING CODE 4312-51-P